NATIONAL AERONAUTICS AND SPACE ADMINISTRATION

[Notice (05-039)]

NASA Robotic and Human Lunar Exploration Strategic Roadmap Committee; Meeting

AGENCY: National Aeronautics and Space Administration (NASA).

ACTION: Notice of meeting.

SUMMARY: In accordance with the Federal Advisory Committee Act, Pub. L. 92-463, as amended, the National Aeronautics and Space Administration announces a forthcoming meeting of the NASA Robotic and Human Lunar Exploration Strategic Roadmap Committee.

DATES: Thursday, March 31, 2005, 8:30 a.m. to 5:30 p.m.; and Friday, April 1, 2005, 8 a.m. to 3 p.m.

ADDRESSES: University of Maryland Inn and Conference Center, 3501 University Blvd East, Adelphi, MD 20740.

FOR FURTHER INFORMATION CONTACT: Mr. Frank Bauer, Advanced Planning and Integration Office, National Aeronautics and Space Administration, Washington, DC 20546, (202) 358-0897.

SUPPLEMENTARY INFORMATION: The meeting will be open to the public up to the capacity of the room. Attendees will be requested to sign a register.

The agenda for the meeting includes the following topics:

• Lunar Surface Operations

• Roadmap Integration

• Actions from Previous Meeting

• Selected Lunar Topics

• Update of Planning Efforts

• Roadmap Objectives & Alternatives

It is imperative that the meeting be held on this date to accommodate the scheduling priorities of the key participants.

Michael F. O'Brien,
Assistant Administrator for External Relations, National Aeronautics and Space Administration.

[FR Doc. 05-4511 Filed 3-7-05; 8:45 am]

BILLING CODE 7510-13-P